FEDERAL ELECTION COMMISSION

11 CFR Parts 100 and 110

[Notice 2018-12]

Internet Communication Disclaimers and Definition of “Public Communication”

AGENCY: Federal Election Commission.

ACTION: Notice of proposed rulemaking; public hearing.

SUMMARY: The Federal Election Commission is adding a second day to the already-announced public hearing on the proposed rules for disclaimers on public communications on the internet.

DATES: The public hearing will be held on June 27-28, 2018, and will begin at 9:30 a.m. on June 27, continuing the next day.

ADDRESSES: The hearing will be held in the Commission's 12th floor hearing room at 1050 First St. NE, Washington, DC.

FOR FURTHER INFORMATION CONTACT: Mr. Neven F. Stipanovic, Acting Assistant General Counsel, or Ms. Jessica Selinkoff, Attorney, (202) 694-1650 or (800) 424-9530.

SUPPLEMENTARY INFORMATION: On March 26, 2018, the Commission published a Notice of Proposed Rulemaking (“NPRM”) proposing to revise its regulations at 11 CFR 100.26 and 110.11 regarding disclaimers on communications placed for a fee on the internet that contain express advocacy, solicit contributions, or are made by political committees. Internet Communication Disclaimers and Definition of “Public Communication,” 83 FR 12864 (Mar. 26, 2018). In the NPRM, the Commission announced that it would hold a hearing on June 27, 2018, and that anyone wishing to testify at the hearing must file timely written comments including a request to testify. Id. The deadline for comments was May 25, 2018, and the Commission received more timely-filed requests to testify than can be accommodated in a one-day hearing.

Accordingly, the Commission is extending the hearing to a second day: June 28, 2018. Witnesses will be limited to those persons who included a request to testify in their timely comments on the NPRM.

Individuals who plan to attend and require special assistance, such as sign language interpretation or other reasonable accommodations, should contact Dayna Brown, Commission Secretary, at (202) 694-1040 at least 72 hours prior to the date of attendance. Individuals who cannot attend in person may view the hearing via webcast; on the hearing day, visit www.fec.gov for more information. The Commission will make transcripts of the hearing available on its website after the hearing.

On behalf of the Commission,
Dated: June 18, 2018.
Caroline C. Hunter,
Chair, Federal Election Commission.

[FR Doc. 2018-13390 Filed 6-21-18; 8:45 am]

BILLING CODE 6715-01-P